DEPARTMENT OF THE INTERIOR

National Park Service

Concession Contracts and Permits: Extension of Expiring Contracts for Up to One Year

AGENCY: National Park Service, Interior.

ACTION: Public notice.

SUMMARY: Pursuant to terms of existing concession contracts, public notice is hereby given that the National Park Service intends to request a continuation of visitor services for a period not-to-exceed one year from the date of contract expiration.

SUPPLEMENTARY INFORMATION: All contracts listed below have been extended to the maximum allowable under 36 CFR 51.23. Under the provisions of current concession contracts and pending the development and public solicitation of a prospectus for a new concession contract, the National Park Service authorizes continuation of visitor services for a period not-to-exceed one year under the terms and conditions of current contracts as amended. The continuation of operations does not affect any rights with respect to selection for execution of a new concession contract.

Concessioner Id No. | Concessioner name | Park
ACAD001 | The Acadia Corporation | Acadia National Park.
AMIS002 | Lake Amistad Resort | Amistad National Recreation Area.
BISO002 | Eastern National | Big South Fork National Recreation Area.
AMIS003 | Rough Canyon Marina | Amistad National Recreation Area.
BLRI001 | Southern Highland Guild | Blue Ridge Parkway.
BLRI002 | Northwest Trading Post | Blue Ridge Parkway.
BLRI009 | Parkway Inn, Inc | Blue Ridge Parkway.
CACA001 | The Cavern Supply Co | Carlsbad Caverns National Park.
CACO003 | Town of Truro | Cape Cod National Seashore.
CACO004 | Charles W. Silva | Cape Cod National Seashore.
CAHA003 | Hatteras Island Hotel | Cape Hatteras National Seashore.
CHOH001 | Fletcher's Boat House | Chesapeake & Ohio Canal National Historic Park.
CUIS001 | Lang Seafood, Inc | Cumberland Island National Seashore.
CURE001 | Elk Creek Marina, Inc | Curecanti National Recreation Area.
DEVA001 | Amfac Hotels & Resorts | Death Valley National Park.
DEVA002 | Amfac Hotels & Resorts | Death Valley National Park.
EVER001 | TW Recreational Services | Everglades National Park.
EVER002 | Everglades Boat Company | Everglades National Park.
FIIS001 | Howard T. Rose | Fire Island National Seashore.
FIIS004 | Davis Park Ferry | Fire Island National Seashore.
GATE001 | Jamaica Bay Riding Co | Gateway National Recreation Area.
GATE002 | Shields and Dean | Gateway National Recreation Area.
GATE013 | Shields and Dean | Gateway National Recreation Area.
GLAC001 | Glacier Park Boat Co | Glacier National Park.
GLCA001 | Aramark (Wilderness River Adv) | Glen Canyon National Recreation Area.
GLCA003 | Aramark (Wahweap Lodge) | Glen Canyon National Recreation Area.
GOGA001 | Blue & Gold Fleet, LP | Golden Gate National Recreation Area.
GOGA002 | Council of American Youth Hostels (Fort Mason) | Golden Gate National Recreation Area.
GOGA003 | Council of American Youth Hostels (Fort Barry) | Golden Gate National Recreation Area.
GOGA008 | Louis' Restaurant | Golden Gate National Recreation Area.
GRCA001 | Amfac Hotels and Resorts | Grand Canyon National Park.
GRCA004 | Grand Canyon Trail Rides Verkamps, Inc | Grand Canyon National Park.
GRCA005 | Grand Canyon Trail Rides Verkamps, Inc | Grand Canyon National Park.
GRSM002 | LeConte Lodge LP | Great Smoky Mountains National Park.
GRTE009 | Exum Mountain Guides | Grand Teton National Park.
GWMP003 | Belle Haven Marina | George Washington Memorial Parkway.
HOSP004 | Libbey Memorial | Hot Springs National Park.
LAME002 | Lakeshore Trailer Village | Lake Mead National Recreation Area.
LAME003 | Seven Resorts, Inc. (Lake Mead Resort) | Lake Mead National Recreation Area.
LAME006 | Las Vegas Boat Harbor | Lake Mead National Recreation Area.
LAME008 | Overton Beach Resort | Lake Mead National Recreation Area.
LAME010 | Seven Resorts, Inc. (Echo Bay Resort) | Lake Mead National Recreation Area.
LAMR002 | Marina at Lake Meredith | Lake Meredith National Recreation Area.
MACA001 | Miss Green River Boat | Mammoth Cave National Park.
MUWO001 | ARAMARK Leisure Services, Inc | Muir Woods National Monument.
NACE003 | Buzzard's Point Boatyard | National Capital Parks East.
OLYM001 | ARAMARK Corp | Olympic National Park.
OLYM005 | Crescent West, Inc | Olympic National Park.
OLYM008 | Sol Duc Hot Springs | Olympic National Park.
OZAR001 | Alley Spring Canoe | Ozark National Scenic Riverway.
OZAR012 | Aker's Canoe Rental | Ozark National Scenic Riverway.
PAIS001 | Padre Island Park Co | Padre Island National Seashore.
PEFO001 | Amfac Hotel & Resorts | Petrified Forest National Park.
PRWI001 | Prince William Travel Trailer Village | Prince William Forest Park.
ROCR003 | Golf Course Specialists | Rock Creek National Park.
ROMO001 | Rex and Ruth Maughan (Trail Ridge Store) | Rocky Mountain National Park.
ROMO002 | Hi Country Stables | Rocky Mountain National Park.
SERO | Eastern National | Southeast Regional Offices.
TICA001 | Carl and Betsy Wagner | Timpanogos Cave National Monument.
VIIS001 | Caneel Bay, Inc | Virgin Islands National Park.
VIIS008 | Caneel Bay, Inc | Virgin Islands National Park.
WHIS001 | Oak Bottom Marina | Whiskeytown National Park.
YELL002 | Hamilton Stores, Inc | Yellowstone National Park.
ZION001 | Bryce/Zion Trail Rides | Zion National Park.

EFFECTIVE DATE: January 2, 2002.

FOR FURTHER INFORMATION CONTACT: Cynthia Orlando, Concession Program Manager, National Park Service, Washington, DC, 20240, Telephone 202/565-1210.

Dated: November 28, 2001.
Richard G. Ring,
Associate Director, Park Operations and Education.

[FR Doc. 01-31892 Filed 12-27-01; 8:45 am]

BILLING CODE 4310-70-M